DEPARTMENT OF LABOR

Occupational Safety and Health Administration

[Docket No. OSHA-2016-0005]

Preparations for the 37th Session of the UN Sub-Committee of Experts on the Globally Harmonized System of Classification and Labelling of Chemicals (UNSCEGHS)

AGENCY: Occupational Safety and Health Administration (OSHA), Labor.

ACTION: Notice of public meeting.

SUMMARY: This notice is to advise interested persons that on Thursday, June 20, 2019, OSHA will conduct a public meeting to discuss proposals in preparation for the 37th session of the United Nations Sub-Committee of Experts on the Globally Harmonized System of Classification and Labelling of Chemicals (UNSCEGHS) to be held July 8 through July 10, 2019, in Geneva, Switzerland. OSHA, along with the U.S. Interagency Globally Harmonized System of Classification and Labelling of Chemicals (GHS) Coordinating Group, plans to consider the comments and information gathered at this public meeting when developing the U.S. Government positions for the UNSCEGHS meeting. OSHA also will give an update on the Regulatory Cooperation Council (RCC).

Also on Thursday, June 20, 2019, the Department of Transportation (DOT), Pipeline and Hazardous Materials Safety Administration (PHMSA) will conduct a public meeting (See 84 FR 11865, March 28, 2019) to discuss proposals in preparation for the 55th session of the United Nations Sub-Committee of Experts on the Transport of Dangerous Goods (UNSCE TDG) to be held July 1 through July 5, 2019, in Geneva, Switzerland. During this meeting, PHMSA is also requesting comments relative to potential new work items that may be considered for inclusion in its international agenda. PHMSA will also provide an update on recent actions to enhance transparency and stakeholder interaction through improvements to the international standards portion of its website.

DATES: The PHMSA public meeting will be held on June 20, 2019, 9:00 a.m. to 12:00 p.m., ET. The OSHA public meeting will also be held June 20, 2019, 1:00 p.m. to 4:00 p.m., ET.

ADDRESSES: Both meetings will be held at the DOT Headquarters Conference Center, West Building, Oklahoma City Conference Room, 1200 New Jersey Avenue SE, Washington, DC 20590.

Written Comments: Interested parties may submit comments by July 8, 2019, on the Working and Informal Papers for the 37th session of the UNSCEGHS to the docket established for International/Globally Harmonized System (GHS) efforts at: http://www.regulations.gov, Docket No. OSHA-2016-0005.

Registration To Attend and/or To Participate in the Meeting: DOT requests that attendees pre-register for these meetings by completing the form at: https://www.surveymonkey.com/r/TM8VS3B. Attendees may use the same form to pre-register for both meetings. Failure to pre-register may delay your access into the DOT Headquarters building. Additionally, if you are attending in person, arrive early to allow time for security checks necessary to access the building. Conference call-in and “Skype meeting” capability will be provided for both meetings. Information on how to access the conference call and “Skype meeting” will be posted when available at: https://www.phmsa.dot.gov/international-program/international-program-overview under Upcoming Events. This information will also be posted on OSHA's Hazard Communication website on the international tab at: https://www.osha.gov/dsg/hazcom/hazcom_international.html#meeting-notice.

FOR FURTHER INFORMATION CONTACT: At the Department of Transportation: Please contact Mr. Steven Webb or Mr. Aaron Wiener, Office of Hazardous Materials Safety, Department of Transportation, Washington, DC 20590, telephone: (202) 366-8553.

At the Department of Labor: Please contact Ms. Maureen Ruskin, OSHA Directorate of Standards and Guidance, Department of Labor, Washington, DC 20210, telephone: (202) 693-1950, email: ruskin.maureen@dol.gov.

SUPPLEMENTARY INFORMATION:

The OSHA Meeting

OSHA is hosting an open informal public meeting of the U.S. Interagency GHS Coordinating Group to provide interested groups and individuals with an update on GHS-related issues and an opportunity to express their views orally and in writing for consideration in developing U.S. Government positions for the upcoming UNSCEGHS meeting.

General topics on the agenda include:

• Review of Working Papers

• Correspondence Group updates

• Regulatory Cooperation Council (RCC) update

Information on the work of the UNSCEGHS including meeting agendas, reports, and documents from previous sessions can be found on the United Nations Economic Commission for Europe (UNECE) Transport Division website located at the following web address: http://www.unece.org/trans/danger/publi/ghs/ghs_welcome_e.html.

The UNSCEGHS bases its decisions on Working Papers. The Working Papers for the 37th session of the UNSCEGHS are located at: https://www.unece.org/trans/main/dgdb/dgsubc4/c42019.html.

Informal Papers submitted to the UNSCEGHS provide information for the Sub-Committee and are used either as a mechanism to provide information to the Sub-Committee or as the basis for future Working Papers. Informal Papers for the 37th session of the UNSCEGHS are located at: https://www.unece.org/trans/main/dgdb/dgsubc4/c4inf37.html.

The PHMSA Meeting

The Federal Register notice and additional detailed information relating to PHMSA's public meeting will be available upon publication at: http://www.regulations.gov (Docket No. PHMSA-2018-0113), and on the PHMSA website at: https://www.phmsa.dot.gov/international-program/international-program-overview.

The primary purpose of PHMSA's meeting is to prepare for the 55th session of the UNSCE TDG. This session represents the first meeting scheduled for the 2019-2020 biennium. UNSCE will consider proposals for the 21st Revised Edition of the United Nations Recommendations on the Transport of Dangerous Goods (Model Regulations), which may be implemented into relevant domestic, regional, and international regulations from January 1, 2021. Copies of working documents, informal documents, and the meeting agenda may be obtained from the United Nations (UN) Transport Division's website at: https://www.unece.org/trans/main/dgdb/dgsubc3/c32019.html.

During this meeting, PHMSA is also soliciting input relative to preparing for the 55th session of the UNSCE TDG as well as potential new work items which may be considered for inclusion in its international agenda. Following the 55th session of the UNSCE TDG, a copy of the Sub-Committee's report will be available at the UN Transport Division's website at: http://www.unece.org/trans/main/dgdb/dgsubc3/c3rep.html.

Additional information regarding the UNSCE TDG and related matters can be found on PHMSA's website at: https://www.phmsa.dot.gov/international-program/international-program-overview.

Authority and Signature

Loren Sweatt, Acting Assistant Secretary for Occupational Safety and Health, U.S. Department of Labor, authorized the preparation of this notice under the authority granted by sections 4, 6, and 8 of the Occupational Safety and Health Act of 1970 (29 U.S.C. 653, 655, 657), and Secretary's Order 1-2012 (77 FR 3912), (Jan. 25, 2012).

Signed at Washington, DC, on May 16, 2019.
Loren Sweatt,
Acting Assistant Secretary of Labor for Occupational Safety and Health.

[FR Doc. 2019-10625 Filed 5-21-19; 8:45 am]

BILLING CODE 4510-26-P